DEPARTMENT OF DEFENSE

Office of the Secretary

Meeting of the Secretary of Defense's Defense Advisory Board for Employer Support of the Guard and Reserve (DAB-ESGR)

AGENCY: Department of Defense.

ACTION: Notice of open meeting.

SUMMARY: This notice announces a meeting of the DAB-ESGR. This meeting will focus on the status of DoD actions and recommendations from previous DAB meetings, and discussion of the board's mission and future goals. This meeting is open to the public.

DATES: May 21, 2008 (8:30 a.m.4:45 p.m.)

ADDRESSES: Alexandria Room, Marriott Crystal Gateway, 1700 Jefferson Davis Highway, Arlington, VA 22202.

FOR FURTHER INFORMATION CONTACT: Interested attendees may contact MAJ Elaine M. Gullotta at 703-696-1385 ext 540, or e-mail at elaine.gullotta@osd.mil.

SUPPLEMENTARY INFORMATION:

Agenda

8:30 Convene, (Mr. James G. Rebholz, Chairman).

8:35 Oath of Office (Mr. Frank Wilson).

8:40 Minutes approval, Due Outs from last meeting (Mr. James G. Rebholz, Chairman).

8:50 Review and discussion of DAB Nomination List (Mr. James G. Rebholz, Chairman).

9:30 Vice Admiral John G. Cotton, Chief of Navy Reserve, Commander, Navy Reserve Force.

10:45 Break.

11:00 Institute for Defense Analyses, Briefing (Mr. Colin Doyle).

12:00 Working Lunch (Discussion and Selection of DAB Nominees) (Mr. James G. Rebholz, Chairman).

1:30 Mr. Paul Wagner Presentation.

2:45 Board Discussion, Due Outs-Subcommittee tasks (Mr. James G. Rebholz, Chairman).

3:30 Break.

4:00 Summary of Proceedings, administrative announcements.

4:45 Adjourn.

Dated: April 16, 2008.
Patricia L. Toppings,
Alternate OSD Federal Register, Liaison Officer, Department of Defense.

[FR Doc. E8-8803 Filed 4-22-08; 8:45 am]

BILLING CODE 5001-06-P